DEPARTMENT OF JUSTICE

Antitrust Division

Notice Pursuant to the National Cooperative Research and Production Act of 1993—Countering Weapons of Mass Destruction

Notice is hereby given that, on April 24, 2019, pursuant to Section 6(a) of the National Cooperative Research and Production Act of 1993, 15 U.S.C. 4301 et seq. (“the Act”), Countering Weapons of Mass Destruction (“CWMD”) has filed written notifications simultaneously with the Attorney General and the Federal Trade Commission disclosing changes in its membership. The notifications were filed for the purpose of extending the Act's provisions limiting the recovery of antitrust plaintiffs to actual damages under specified circumstances. Specifically, Alpha Space Test and Research Alliance, LLC Houston, TX; AQUILA, Albuquerque, NM; Aurora Flight Sciences Corp., Manassas, VA; Blueforce Development, Corp., Newburyport, MA; Draeger, Inc., Telford, PA; Field Forensics, Inc., Saint Petersburg, FL; Interclypse, Inc., Annapolis Junction, MD; Kansas State University, Manhattan, KS; Mirion Technologies (Canberra) Inc., Oak Ridge, TN; Mirion Technologies (MGPI), Smyrna, GA; Nucsafe, Inc., Oak Ridge, TN; Physical Optics Corporation, Torrence, CA; QRC, LLC dba QRC Technologies, Fredericksburg, VA; Rhodium Scientific, LLC, San Antonio, TX; SpectraGenetics, Inc., Pittsburgh, PA; Spectrum Photonics, Honolulu, HI; Subsystem Technologies, Inc., Arlington, VA; Surface Optics Corporation, San Diego, CA; SURVICE Engineering Company, LLC, Belcamp, MD; Teledyne Brown Engineering, Inc., Huntsville, AL; Valitus Technologies, Inc., Corona, CA; and WGS Systems, LLC, Frederick, MD, have been added as parties to this venture.

Also, EcoHealth Alliance, New York, NY, has withdrawn as a party to this venture.

No other changes have been made in either the membership or planned activity of the group research project. Membership in this group research project remains open, and CWMD intends to file additional written notifications disclosing all changes in membership.

On January 31, 2018, CWMD filed its original notification pursuant to Section 6(a) of the Act. The Department of Justice published a notice in the Federal Register pursuant to Section 6(b) of the Act on March 12, 2018 (83 FR 10750).

The last notification was filed with the Department on January 28, 2019. A notice was published in the Federal Register pursuant to Section 6(b) of the Act on February 15, 2019 (84 FR 4537).

Suzanne Morris,
Chief, Premerger and Division Statistics Unit, Antitrust Division.

[FR Doc. 2019-12647 Filed 6-14-19; 8:45 am]

BILLING CODE 4410-11-P